DEPARTMENT OF TRANSPORTATION

49 CFR Part 39

[Docket OST 2007-26829]

RIN 2105-AB87

Transportation for Individuals With Disabilities: Passenger Vessels

AGENCY: Department of Transportation, Office of the Secretary.

ACTION: Proposed rule; extension of comment period.

SUMMARY: The Department is extending through June 22, 2007, the period for interested persons to submit comments to its proposed rule to amend its Americans with Disabilities Act regulations concerning passenger vessels.

COMMENT CLOSING DATE: Comments should be submitted by June 22, 2007. Late-filed comments will be considered to the extent practicable.

ADDRESSES: You may submit comments identified by the docket number OST 2007-26829 by any of the following methods:

• Web site: http://dms.dot.gov. Follow the instructions for submitting comments on the DOT electronic docket site.

• Federal e-Rulemaking Portal: http://www.regulations.gov. Follow the instructions for submitting comments.

• Fax: (202) 493-2251.

• Mail: Docket Management System; U.S. Department of Transportation, 400 Seventh Street, SW., Nassif Building, Room PL-401, Washington, DC 20590-0001.

• Hand Delivery: To the Docket Management System; Room PL-401 on the plaza level of the Nassif Building, 400 Seventh Street, SW., Washington, DC, between 9 a.m. and 5 p.m., Monday through Friday, except Federal holidays.

Instructions: You must include the agency name and docket number OST-2007-26829 or the Regulatory Identification Number (RIN) for this rulemaking at the beginning of your comment. Note that all comments received will be posted without change to http://dms.dot.gov, including any personal information provided.

Docket: You may view the public docket through the Internet at http://dms.dot.gov or in person at the Docket Management System office at the above address.

The Department of Transportation is in the process of moving to a new building. It is anticipated that the Docket Office will move to its new location before the end of the extended comment period. We do not yet have the complete address for the Docket Office in the Department's new building. The Department will publish a Federal Register notice when this information becomes available. The address change will not affect electronic submissions, and mail submissions will be forwarded to the new address.

FOR FURTHER INFORMATION CONTACT: Robert C. Ashby, Deputy Assistant General Counsel for Regulation and Enforcement, Department of Transportation, 400 7th Street, SW., Room 10424, Washington, DC 20590-0001. (202) 366-9306 (voice); (202) 755-7687 (TDD); bob.ashby@dot.gov (e-mail).

SUPPLEMENTARY INFORMATION: On January 23, 2007, the Department of Transportation issued a notice of proposed rulemaking (NPRM) (72 FR 2833) to amend its Americans with Disabilities Act (ADA) rules to add requirements concerning passenger vessels. The comment period for this NPRM was scheduled to end on April 23, 2007. A 90-day comment period is commonly provided for significant proposed rules.

On January 31, 2007, the Cruise Lines International Association (CLIA) requested a 120-day extension of the comment period. CLIA cited as reasons for its request the need for potential commenters to consider the questions the Department asked in the preamble to the NPRM and the relationship between the NPRM and ongoing work of the Access Board concerning accessibility guidelines for passenger vessels.

The Department believes that some extension of the comment period can be justified and that the Department can extend the comment period for a reasonable time without unduly delaying work toward a final rule. However, we do not believe that a 120-day extension, which would more the double the length of the original comment period, is necessary to allow interested persons to provide informed comments to the Department, and we are concerned that such a lengthy extension could create unnecessary delay.

Consequently, the Department will extend the comment period for 60 days, through June 22, 2007. The Department does not anticipate the need for any further extensions. Given the additional time provided for comments, we urge interested persons to make every effort to provide detailed information concerning the issues they raise.

Issued this 4th day of April, 2007, at Washington, DC.
Rosalind A. Knapp,
Acting General Counsel.

[FR Doc. E7-6941 Filed 4-12-07; 8:45 am]

BILLING CODE 4910-9X-P